ENVIRONMENTAL PROTECTION AGENCY

[EPA-R10-OW-2022-0418; FRL-9860-03-R10]

Proposed Determination To Prohibit and Restrict the Use of Certain Waters Within Defined Areas as Disposal Sites; Pebble Deposit Area, Southwest Alaska; Announcement To Extend the Period To Evaluate Public Comments

AGENCY: Environmental Protection Agency (EPA).

ACTION: Notice to extend the period to evaluate public comments.

SUMMARY: The Environmental Protection Agency (EPA) Region 10 is extending the time requirement to allow the EPA Region 10 Regional Administrator to consider all public comments received on its 2022 Proposed Determination to Prohibit and Restrict the Use of Certain Waters within Defined Areas as Disposal Sites; Pebble Deposit Area, Southwest Alaska, issued pursuant to the Clean Water Act (CWA).

SUPPLEMENTARY INFORMATION: On May 26, 2022, the Environmental Protection Agency (EPA) Region 10 published in the Federal Register a notice of availability and notice of public hearings for the 2022 Proposed Determination to Prohibit and Restrict the Use of Certain Waters Within Defined Areas as Disposal Sites; Pebble Deposit Area, Southwest Alaska issued pursuant to Section 404(c) of the Clean Water Act (CWA) (87 FR 32021). On June 16 and 17, 2022, the EPA Region 10 held three public hearings. Of the 186 individuals that attended the public hearings 111 provided testimony. On June 30, 2022, the EPA published in the Federal Register a Notice of extension of public comment period and public hearing comment period through September 6, 2022 (87 FR 39091). As of August 24, 2022, the EPA Region 10 had received 35,011 comments and expects to receive additional comments through the end of the public comment period.

EPA's regulations require that, within 30 days after the conclusion of public hearings (but not before the end of the comment period), the Regional Administrator either withdraw the 2022 Proposed Determination or prepare a Recommended Determination (40 CFR 231.5(a)). The Regional Administrator may, upon a showing of good cause, extend this time requirement (40 CFR 231.8). At the time the public comment period closes, more than 30 days will have passed since the date of the last public hearing. Accordingly, the EPA finds there is good cause to extend the time period provided in 40 CFR 231.5(a) to either withdraw the 2022 Proposed Determination or to prepare a Recommended Determination until no later than December 2, 2022, to help ensure full consideration of the extensive administrative record including all public comments.

FOR FURTHER INFORMATION CONTACT: Visit www.epa.gov/bristolbay or contact Erin Seyfried through the Bristol Bay-specific phone line, (206) 553-0040, or email address, r10bristolbay@epa.gov.

Dated: August 29, 2022.
Casey Sixkiller,
Regional Administrator, Region 10.

[FR Doc. 2022-19132 Filed 9-2-22; 8:45 am]

BILLING CODE 6560-50-P